DEPARTMENT OF COMMERCE

International Trade Administration

19 CFR Part 351

Correction to Modification of Regulations Regarding the Definition of Factual Information and Time Limits for Submission of Factual Information

AGENCY: Import Administration, International Trade Administration, Department of Commerce.

FOR FURTHER INFORMATION CONTACT: Joanna Theiss at (202) 482-5052.

Correction

On July 10, 2012, the Department of Commerce published in the Federal Register the following notice: Modification of Regulations Regarding the Definition of Factual Information and Time Limits for Submission of Factual Information, 77 FR 40534 (July 10, 2012) (“Modification of Factual Information Regulations”). After publication of Modification of Factual Information Regulations, we identified an inadvertent error in this notice. Specifically, the notice does not include a Docket Number for the submission of comments through the Federal eRulemaking Portal. The Docket Number is Docket No. ITA-2012-0004. To be assured of consideration, comments must be received by August 24, 2012.

Dated: July 10, 2012.
Ronald K. Lorentzen,
Acting Assistant Secretary for Import Administration.

[FR Doc. 2012-17284 Filed 7-16-12; 8:45 am]

BILLING CODE 3510-DS-P